FEDERAL ELECTION COMMISSION

Sunshine Act Meeting

FEDERAL REGISTER CITATION NOTICE OF PREVIOUS ANNOUNCEMENT: 84 FR 52106.

PREVIOUSLY ANNOUNCED TIME, DATE, AND PLACE OF THE MEETING: Thursday, October 17, 2019 at 10:00 a.m., 1050 First Street NE, Washington, DC (12th Floor).

CHANGES IN THE MEETING: The October 17, 2019 Open Meeting was canceled.

CONTACT PERSON FOR MORE INFORMATION: Judith Ingram, Press Officer, Telephone: (202) 694-1220.

Authority: Government in the Sunshine Act, 5 U.S.C. 552b.

Laura E. Sinram,
Acting Secretary and Clerk of the Commission.

[FR Doc. 2019-22427 Filed 10-9-19; 4:15 pm]

BILLING CODE 6715-01-P